DEPARTMENT OF COMMERCE

International Trade Administration

The Pennsylvania State University; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 A.M. and 5 P.M. in Suite 4100W, U.S. Department of Commerce, Franklin Court Building, 1099 14th Street, NW., Washington, DC.

Docket Number: 02-043. Applicant: The Pennsylvania State University, University Park, PA 16802. Instrument: Colony Picking/Arraying Robot, Model Q PixII. Manufacturer: Genetix Limited, United Kingdom. Intended Use: See notice at 67 FR 64097, October 17, 2002.

Comments: None received. Decision: Approved. No instrument of equivalent scientific value to the foreign instrument, for such purposes as it is intended to be used, is being manufactured in the United States. Reasons: The foreign instrument provides: a unique multi-tasking robotic system for both picking and spotting as well as arraying specific cell colonies with a rapid picking rate of 3500 colonies per hour and the very high throughput required for large scale gene sequencing projects. The National Institutes of Health advises in its memorandum of October 7, 2002 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-29793 Filed 11-21-02; 8:45 am]

BILLING CODE 3510-DS-P